DEPARTMENT OF TRANSPORTATION

Federal Aviation Administration

Meeting: RTCA Program Management Committee (PMC)

AGENCY: Federal Aviation Administration (FAA), U.S. Department of Transportation (DOT).

ACTION: Notice of RTCA Program Management Committee meeting.

SUMMARY: The FAA is issuing this notice to advise the public of the RTCA Program Management Committee meeting.

DATES: The meeting will be held June 21, 2016 from 8:30 a.m.-4:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Program Management Committee. The agenda will include the following:

Tuesday, June 21, 2016

1. WELCOME AND INTRODUCTIONS

2. REVIEW/APPROVE

a. Meeting Summary March 17, 2016

3. PUBLICATION CONSIDERATION/APPROVAL

a. Final Draft, Revised Document, DO-230F—Standards for Airport Security Access Control Systems, prepared by SC-224

4. INTEGRATION and COORDINATION COMMITTEE (ICC)

a. Review of MOPS and MASPS Guide Documents—Update

b. Cross Cutting Committee (CCC) Process Recommendations—Discussion

5. PAST ACTION ITEM REVIEW

a. Bilateral Oversight Board Agreement Posting—Update

b. ARINC ATC Winds Work—Update

c. Feedback on NextGen Advisory Council Performance Based Navigation Study—Update

d. SC-214 participation with SC-223 Internet Protocol Suites Activity—Update

e. Ad-hoc on change to Risk Base vs. Performance Base Recommendations—Update

i. Runway Overrun Alerting—Status—Possible new SC

ii. Wireless Avionics Intra Communication—Status—Possible new SC

iii. Global Aeronautical Distress and Safety System—Discussion

f. URL for Library Equipment Options—Update

6. DISCUSSION

a. Design Assurance Guidance for Airborne Electronic Hardware—Status—Possible New Special Committee (SC) to Update RTCA DO-254

b. SC-225—Rechargeable Lithium Batteries and Battery Systems—Discussion—Update on DO-311 Revision

c. SC-228—Minimum Performance Standards for Unmanned Aircraft Systems—Discussion—TOR Update—Possible Revision

d. SC-229—406 MHz Emergency Locator Transmitters (ELTs)—Discussion—Revised TOR

e. NAC—Status Update

f. TOC—Status Update

g. FAA Actions Taken on Previously Published Documents—Report

h. Special Committees—Chairmen's Reports and Active Inter-Special Committee Requirements Agreements (ISRA)—Review

i. European/EUROCAE Coordination—Status Update

7. OTHER BUSINESS

a. Cyber Security in Mission Critical Environments—Presentation

b. Drone Advisory Committee (DAC)—Presentation

c. Document Page Numbering—Discussion

8. SCHEDULE for COMMITTEE DELIVERABLES and NEXT MEETING DATE

9. NEW ACTION ITEM SUMMARY

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 19, 2016.
Latasha Robinson,
Management & Program Analyst, NextGen, Enterprise Support Services Division, Federal Aviation Administration.

[FR Doc. 2016-12218 Filed 5-23-16; 8:45 am]

BILLING CODE 4910-13-P